DEPARTMENT OF COMMERCE

International Trade Administration

[A-570-888]

Floor-Standing, Metal-Top Ironing Tables and Certain Parts Thereof From the People's Republic of China; Extension of Time Limit for Preliminary Results of Antidumping Duty Administrative Review

AGENCY: Import Administration, International Trade Administration, Department of Commerce.

DATES: Effective Date: May 4, 2011.

FOR FURTHER INFORMATION CONTACT: Michael J. Heaney or Robert James, AD/CVD Operations Office 7, Import Administration, International Trade Administration, U.S. Department of Commerce, 14th Street and Constitution Avenue NW., Washington, DC 20230; telephone: (202) 482-4475 or (202) 482-0649, respectively.

SUPPLEMENTARY INFORMATION:

Background

On September 29, 2010, the Department of Commerce (the Department) published in the Federal Register the initiation of administrative review of the antidumping duty order on floor-standing, metal top ironing tables and certain parts thereof from the People's Republic of China, covering the period of August 1, 2009, through July 31, 2010. See Initiation of Antidumping and Countervailing Duty Administrative Reviews and Request for Revocation in Part, 75 FR 60076 (September 29, 2010). The current deadline for the preliminary results of this review is May 3, 2011.

Extension of Time Limits for Preliminary Results of Review

Section 751(a)(3)(A) of the Tariff Act of 1930, as amended (the Act), requires that the Department complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department finds that it is not practicable to complete the preliminary results of this review within the original time frame because we require additional time to solicit and analyze complex data regarding steel inputs, factors of production and surrogate values. Thus, the Department finds it is not practicable to complete this review within the original time limit (i.e., May 3, 2011). Accordingly, the Department is extending the time limit for completion of the preliminary results of this administrative review by 120 days (i.e., until August 31, 2011, in accordance with section 751(a)(3)(A) of the Act and 19 CFR 351.213(h)(2)). We intend to issue the final results no later than 120 days after publication of the preliminary results notice.

This extension is issued and published in accordance with sections 751(a)(3)(A) and 777(i) of the Act.

Dated: April 27, 2011.
Christian Marsh,
Deputy Assistant Secretary for Antidumping and Countervailing Duty Operations.

[FR Doc. 2011-10890 Filed 5-3-11; 8:45 am]

BILLING CODE 3510-DS-P